DEPARTMENT OF ENERGY

Federal Energy Regulatory Commission

Combined Notice of Filings #2

Take notice that the Commission received the following exempt wholesale generator filings:

Docket Numbers: EG16-82-000.

Applicants: La Frontera Holdings, LLC.

Description: La Frontera Holdings, LLC Submits Self-Certification of EWG Status.

Filed Date: 4/5/16.

Accession Number: 20160405-5173.

Comments Due: 5 p.m. ET 4/26/16.

Take notice that the Commission received the following electric rate filings:

Docket Numbers: ER16-704-001.

Applicants: Southwest Power Pool, Inc.

Description: Compliance filing: Compliance Filing—Revisions to Identify U.S. Canada Border as POD/POR to be effective 3/8/2016.

Filed Date: 4/5/16.

Accession Number: 20160405-5121.

Comments Due: 5 p.m. ET 4/26/16.

Docket Numbers: ER16-1348-000.

Applicants: Midcontinent Independent System Operator, Inc., Great River Energy.

Description: § 205(d) Rate Filing: 2016-04-05—GRE Attachment O Revisions to be effective 6/4/2016.

Filed Date: 4/5/16.

Accession Number: 20160405-5114.

Comments Due: 5 p.m. ET 4/26/16.

Docket Numbers: ER16-1349-000.

Applicants: Kentucky Utilities Company.

Description: Initial rate filing: KU Rate Schedule 408 APCO Borderline Agmt to be effective 4/5/2016.

Filed Date: 4/5/16.

Accession Number: 20160405-5157.

Comments Due: 5 p.m. ET 4/26/16.

Docket Numbers: ER16-1350-000.

Applicants: Southwest Power Pool, Inc.

Description: § 205(d) Rate Filing: 2252R4 Cottonwood Wind Project GIA Cancellation to be effective 3/10/2016.

Filed Date: 4/5/16.

Accession Number: 20160405-5159.

Comments Due: 5 p.m. ET 4/26/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 5, 2016.
Nathaniel J. Davis, Sr.,
Deputy Secretary.

[FR Doc. 2016-08415 Filed 4-12-16; 8:45 am]

BILLING CODE 6717-01-P